DEPARTMENT OF COMMERCE

Foreign-Trade Zones Board

[B-53-2018]

Foreign-Trade Zone (FTZ) 127—West Columbia, South Carolina; Notification of Proposed Production Activity; Constantia Blythewood, LLC; (Flexible Packaging and Engineered Industrial Films); Blythewood, South Carolina

The Richland-Lexington Airport District, Columbia Metropolitan Airport, grantee of FTZ 127, submitted a notification of proposed production activity to the FTZ Board on behalf of Constantia Blythewood, LLC (Constantia Blythewood), located in Blythewood, South Carolina. The notification conforming to the requirements of the regulations of the FTZ Board (15 CFR 400.22) was received on August 27, 2018.

The Constantia Blythewood facility is located within Subzone 127E. The facility is used for the production of flexible packaging, engineered industrial films and related items for the food, beverage and personal care industries. Pursuant to 15 CFR 400.14(b), FTZ activity would be limited to the specific foreign-status materials and components and specific finished products described in the submitted notification (as described below) and subsequently authorized by the FTZ Board.

Production under FTZ procedures could exempt Constantia Blythewood from customs duty payments on the foreign-status components used in export production. On its domestic sales, for the foreign-status materials/components noted below, Constantia Blythewood would be able to choose the duty rates during customs entry procedures that apply to: Paints and varnishes based on synthetic polymers; acrylic polymers; plastic films; self-adhesive paperboard; coated, impregnated, or covered printing paper and paperboard; foil-backed paperboard; backed and decorated aluminum foil; and, aluminum foil rolled with underlay (duty rate ranges from duty-free to 4.2%). Constantia Blythewood would be able to avoid duty on foreign-status components which become scrap/waste. Customs duties also could possibly be deferred or reduced on foreign-status production equipment.

The components and materials sourced from abroad include: Paints and varnishes based on polyester; paints and varnishes based on chemically modified natural polymers and dissolved in a non-aqueous medium; acrylic polymers; acrylic polymer plates; propylene polymer plates, sheets, films, foils and strips; polymers of vinyl chloride; plastic plates, sheets, films, foils and strips with textile components; plastic articles for decoration; paperboard; condenser paper; rolls of embossed paper; self-adhesive paper; paper covered with a substrate that will allow for lamination to another material; printing paper weighing over 30g; aluminum can body and lid stock; rolled aluminum foil of a thickness exceeding 0.01mm; embossed aluminum foil, not backed; etched capacitor foil; backed aluminum that has been covered or decorated; and, photographic films and dry plates (duty rate ranges from duty-free to 5.3%). The request indicates that certain materials/components are subject to special duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary at the address below. The closing period for their receipt is October 15, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: August 28, 2018.
Andrew McGilvray,
Executive Secretary.

[FR Doc. 2018-19099 Filed 8-31-18; 8:45 am]

BILLING CODE 3510-DS-P